DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (the “SDN List”) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On October 16, 2018, OFAC determined that the property and interests in property subject to U.S. jurisdiction of the following persons are blocked under the relevant sanctions authorities listed below.

Entities

1. TADBIRGARAN ATIYEH IRANIAN INVESTMENT COMPANY, No. 48, 14th Street, Ahmad Ghasir Avenue, Tehran, Iran; Additional Sanctions Information—Subject to Secondary Sanctions; National ID No. 10102867151 (Iran); Registration Number 246077 (Iran) [SDGT] [IFSR] (Linked To: MEHR-E EQTESAD-E IRANIAN INVESTMENT COMPANY).

Designated pursuant to section 1(c) of E.O. 13224 for being owned or controlled by MEHR EQTESAD IRANIAN INVESTMENT COMPANY, a person determined to be subject to E.O. 13224.

2. TAKTAR INVESTMENT COMPANY, Number 10, Seventh Fath Highway, 65 Metri Fath Highway, Tehran, Iran; Additional Sanctions Information—Subject to Secondary Sanctions; National ID No. 10103804463 (Iran); Registration Number 263015 (Iran) [SDGT] [IFSR] (Linked To: TECHNOTAR ENGINEERING COMPANY).

Designated pursuant to section 1(c) of E.O. 13224 for being owned or controlled by TECHNOTAR ENGINEERING COMPANY, a person determined to be subject to E.O. 13224.

3. CALCIMIN (a.k.a. KALSIMIN), No. 12, St. Bilal Habashi, Khorramshahr Ave., Zanjan 4516773541, Iran; Second Floor, No. 13, Street 8th, Ghaem Magham Farahari Ave., Tehran 1586868513, Iran; website www.calcimin.com; Additional Sanctions Information—Subject to Secondary Sanctions [SDGT] [IFSR] (Linked To: IRAN ZINC MINES DEVELOPMENT COMPANY).

Designated pursuant to section 1(c) of E.O. 13224 for being owned or controlled by IRAN ZINC MINES DEVELOPMENT COMPANY, a person determined to be subject to E.O. 13224.

4. QESHM ZINC SMELTING AND REDUCTION COMPANY (a.k.a. QESHM ZINC SMELTING AND REDUCTION COMPLEX), 20 Km Dargahan-to-Loft Road, Qeshm Island, Hormozgan, Iran; website www.gzsc.ir; Additional Sanctions Information—Subject to Secondary Sanctions [SDGT] [IFSR] (Linked To: CALCIMIN).

Designated pursuant to section 1(c) of E.O. 13224 for being owned or controlled by CALCIMIN, a person determined to be subject to E.O. 13224.

5. BANDAR ABBAS ZINC PRODUCTION COMPANY, No. 15, Zarir Alley, Turkmenistan Street, Motahhari Avenue, Tehran 1565613115, Iran; website www.bzpc.ir; Additional Sanctions Information—Subject to Secondary Sanctions; National ID No. 1080000606618 (Iran); Registration Number 3249 (Iran) [SDGT] [IFSR] (Linked To: CALCIMIN).

Designated pursuant to section 1(c) of E.O. 13224 for being owned or controlled by CALCIMIN, a person determined to be subject to E.O. 13224.

6. ZANJAN ACID PRODUCTION COMPANY (a.k.a. ZANJAN ACID MAKERS; a.k.a. ZANJAN ACID MAKERS AND ALVAND ROUINKARAN; a.k.a. ZANJAN ACID SAZAN), The end of the Tenth Bahrevari Street, Zinc Industrial Town, 5 km off Bijar Road, Zanjan, Iran; website www.acidsazan.ir; Additional Sanctions Information—Subject to Secondary Sanctions [SDGT] [IFSR] (Linked To: CALCIMIN).

Designated pursuant to section 1(c) of E.O. 13224 for being owned or controlled by CALCIMIN, a person determined to be subject to E.O. 13224.

7. NEGIN SAHEL ROYAL INVESTMENT COMPANY (a.k.a. NEGIN SAHEL ROYAL CO.), No. 48, 14th Street, Ahmad Ghasir Avenue, Argentina Square, Tehran, Iran; Additional Sanctions Information—Subject to Secondary Sanctions; National ID No. 10103589144 (Iran); Registration Number 322430 (Iran) [SDGT] [IFSR] (Linked To: MEHR-E EQTESAD-E IRANIAN INVESTMENT COMPANY).

Designated pursuant to section 1(c) of E.O. 13224 for being owned or controlled by MEHR EQTESAD IRANIAN INVESTMENT COMPANY, a person determined to be subject to E.O. 13224.

8. IRAN ZINC MINES DEVELOPMENT COMPANY, No. 13, 8th Street, Ghaem Maghame Farahani Ave., Tehran, Iran; No. 45, 4th Street, Amir Alame Ghazanfarian Avenue, Etemadiyeh, Zanjan, Iran; website www.IZMDC.com; Additional Sanctions Information—Subject to Secondary Sanctions [SDGT] [IFSR] (Linked To: TAKTAR INVESTMENT COMPANY).

Designated pursuant to section 1(c) of E.O. 13224 for being owned or controlled by TAKTAR INVESTMENT COMPANY, a person determined to be subject to E.O. 13224.

9. TECHNOTAR ENGINEERING COMPANY, Number 10, Seventh Fath Street, 65 Metri Fath Highway, Tehran, Iran; website www.tecnotar.com; Additional Sanctions Information—Subject to Secondary Sanctions; National ID No. 1086165880 (Iran); Registration Number 13807 (Iran) [SDGT] [IFSR] (Linked To: MEHR-E EQTESAD-E IRANIAN INVESTMENT COMPANY).

Designated pursuant to section 1(c) of E.O. 13224 for being owned or controlled by MEHR EQTESAD IRANIAN INVESTMENT COMPANY, a person determined to be subject to E.O. 13224.

10. IRAN TRACTOR MANUFACTURING COMPANY (a.k.a. IRAN TRACTOR MANUFACTURING), Sephabod Gharani Avenue, Km 9/5 Karaj Special Road, Corner of Yazar Zarin Street, Opposite Shahab Khodro, Office of The Tractor Engineering, Tehran, Iran; website www.itm.co.ir; Additional Sanctions Information—Subject to Secondary Sanctions [SDGT] [IFSR] (Linked To: MEHR-E EQTESAD-E IRANIAN INVESTMENT COMPANY; Linked To: NEGIN SAHEL ROYAL INVESTMENT COMPANY).

Designated pursuant to section 1(c) of E.O. 13224 for being owned or controlled by MEHR EQTESAD IRANIAN INVESTMENT COMPANY, a person determined to be subject to E.O. 13224.

Designated pursuant to section 1(c) of E.O. 13224 for being owned or controlled by NEGIN SAHEL ROYAL COMPANY, a person determined to be subject to E.O. 13224.

11. PARSIAN CATALYST CHEMICAL COMPANY, Sixth Bahrevari Street, Zinc Special Town, 5 km of Bijar Road, Zanjan 453515357, Iran; website www.catalistparsian.com; Additional Sanctions Information—Subject to Secondary Sanctions; Registration Number 6181 (Iran) [SDGT] [IFSR] (Linked To: CALCIMIN).

Designated pursuant to section 1(c) of E.O. 13224 for being owned or controlled by CALCIMIN, a person determined to be subject to E.O. 13224.

12. ANDISHEH MEHVARAN INVESTMENT COMPANY, No. 13, 8th Street, Ghaem Magham Farahani Ave, Tehran, Iran; Additional Sanctions Information—Subject to Secondary Sanctions [SDGT] [IFSR] (Linked To: IRAN ZINC MINES DEVELOPMENT COMPANY).

Designated pursuant to section 1(c) of E.O. 13224 for being owned or controlled by IRAN ZINC MINES DEVELOPMENT COMPANY, a person determined to be subject to E.O. 13224.

Designated pursuant to section 1(d)(i) of E.O. 13224 for assisting in, sponsoring, or providing financial, material, techological support for, or financial or other services to or in support of, IRAN ZINC MINES DEVELOPMENT COMPANY, a person determined to be subject to E.O. 13224.

13. BAHMAN GROUP, No. 37, Saba Boulevard, Africa Street, P.O. Box 14335-835, Tehran 1917773844, Iran; website www.bahmangroup.com; Additional Sanctions Information—Subject to Secondary Sanctions [SDGT] [IFSR] (Linked To: ANDISHEH MEHVARAN INVESTMENT COMPANY).

Designated pursuant to section 1(d)(i) of E.O. 13224 for assisting in, sponsoring, or providing financial, material, techological support for, or financial or other services to or in support of, ANDISHEH MEHVARAN INVESTMENT COMPANY, a person determined to be subject to E.O. 13224.

14. ESFAHAN'S MOBARAKEH STEEL COMPANY (a.k.a. MOBARAKEH STEEL COMPANY), P.O. Box 161-84815, Mobarakeh, Esfahan 11131-84881, Iran; Mobarakeh Steel Company, Sa'adat Abad St., Azadi SQ., Esfahan, Esfahan, Iran; Mobarakeh Steel Company, No. 2, Gol Azin Alley, Kouhestan St., Ketah SQ., Sa'adat Abad, Tehran, Iran; website www.en.msc.ir; Additional Sanctions Information—Subject to Secondary Sanctions; National ID No. 10260289464 (Iran); Commercial Registry Number 411175869887 (Iran) [SDGT] [IFSR] (Linked To: MEHR-E EQTESAD-E IRANIAN INVESTMENT COMPANY).

Designated pursuant to section 1(d)(i) of E.O. 13224 for assisting in, sponsoring, or providing financial, material, techological support for, or financial or other services to or in support of, MEHR EQTESAD IRANIAN INVESTMENT COMPANY, a person determined to be subject to E.O. 13224.

15. MEHR-E EQTESAD-E IRANIAN INVESTMENT COMPANY (a.k.a. MEHR EGHTESAD IRANIAN INVESTMENT COMPANY; a.k.a. MEHR IRANIAN ECONOMY COMPANY; a.k.a. MEHR IRANIAN ECONOMY INVESTMENTS; a.k.a. MEHR EQTESAD IRANIAN INVESTMENT COMPANY; f.k.a. TEJARAT TOSE'E EQTESADI IRANIAN), No. 18, Iranian Building, 14th Alley, Ahmad Qassir Street, Argentina Square, Tehran, Iran; No. 48, 14th Alley, Ahmad Qassir Street, Argentina Square, Tehran, Iran; website www.mebank.ir; Additional Sanctions Information—Subject to Secondary Sanctions; Phone Number 982188526300; alt. Phone Number 982188526301; alt. Phone Number 982188526302; alt. Phone Number 982188526303; alt. Phone Number 9821227700019; Business Registration Document # 103222 (Iran); National ID No. 10101863528 (Iran); Fax: 982188526337; Alt. Fax: 9221227700019 [SDGT] [NPWMD] [IRGC] [IFSR] (Linked To: MEHR EQTESAD BANK).

Designated pursuant to section 1(c) of E.O. 13224 for being owned or controlled by MEHR EQTESAD BANK, a person determined to be subject to E.O. 13224.

Designated pursuant to section 1(d)(i) of E.O. 13224 for assisting in, sponsoring, or providing financial, material, techological support for, or financial or other services to or in support of, MEHR EQTESAD BANK, a person determined to be subject to E.O. 13224.

16. BASIJ RESISTANCE FORCE (a.k.a. BASEEJ; a.k.a. BASIJ; a.k.a. BASIJ-E MELLI; a.k.a. MOBILIZATION OF THE OPPRESSED ORGANIZATION; f.k.a. SAZMAN BASIJ MELLI; a.k.a. SAZMAN-E MOGHAVEMAT-E BASIJ; f.k.a. VAHED-E BASIJ-E MOSTAZAFEEN; f.k.a. “NATIONAL MOBILIZATION ORGANIZATION”; a.k.a. “NATIONAL RESISTANCE MOBILIZATION”; a.k.a. “RESISTANCE MOBILIZATION FORCE”), Iran; Additional Sanctions Information—Subject to Secondary Sanctions [SDGT] [IRGC] [IFSR] [IRAN-HR] (Linked To: ISLAMIC REVOLUTIONARY GUARD CORPS (IRGC)-QODS FORCE; Linked To: ISLAMIC REVOLUTIONARY GUARD CORPS).

Designated pursuant to section 1(c) of E.O. 13224 for being owned or controlled by Iran's ISLAMIC REVOLUTIONARY GUARD CORPS, a person determined to be subject to E.O. 13224.

Designated pursuant to section 1(d)(i) of E.O. 13224 for assisting in, sponsoring, or providing financial, material, techological support for, or financial or other services to or in support of, Iran's ISLAMIC REVOLUTIONARY GUARD CORPS-QODS FORCE, a person determined to be subject to E.O. 13224.

17. BONYAD TAAVON BASIJ (a.k.a. BASIJ COOPERATIVE FOUNDATION), Tehran, Iran; Additional Sanctions Information—Subject to Secondary Sanctions [SDGT] [IFSR] (Linked To: BASIJ RESISTANCE FORCE).

Designated pursuant to section 1(c) of E.O. 13224 for being owned or controlled by Iran's BASIJ RESISTANCE FORCE, a person determined to be subject to E.O. 13224.

Designated pursuant to section 1(d)(i) of E.O. 13224 for assisting in, sponsoring, or providing financial, material, techological support for, or financial or other services to or in support of, Iran's BASIJ RESISTANCE FORCE, a person determined to be subject to E.O. 13224.

18. BANK MELLAT, Head Office Bldg, 276 Taleghani Ave, Tehran, Iran; SWIFT/BIC BKMTIRTH; website www.bankmellat.ir; Additional Sanctions Information—Subject to Secondary Sanctions; All Branches Worldwide [IRAN] [SDGT] [IFSR] (Linked To: MEHR EQTESAD BANK).

Designated pursuant to section 1(d)(i) of E.O. 13224 for assisting in, sponsoring, or providing financial, material, techological support for, or financial or other services to or in support of, MEHR EQTESAD BANK, a person determined to be subject to E.O. 13224.

19. MEHR EQTESAD BANK (a.k.a. MEHR INTEREST-FREE BANK), No. 182, Shahid Tohidi St, 4th Golsetan, Pasdaran Ave, Tehran 1666943, Iran; website www.mebank.ir; Additional Sanctions Information—Subject to Secondary Sanctions [SDGT] [IFSR] (Linked To: BONYAD TAAVON BASIJ; Linked To: BASIJ RESISTANCE FORCE).

Designated pursuant to section 1(c) of E.O. 13224 for being owned or controlled by BONYAD TAAVON BASIJ, a person determined to be subject to E.O. 13224.

Designated pursuant to section 1(d)(i) of E.O. 13224 for assisting in, sponsoring, or providing financial, material, techological support for, or financial or other services to or in support of, BONYAD TAAVON BASIJ, a person determined to be subject to E.O. 13224.

Designated pursuant to section 1(d)(i) of E.O. 13224 for assisting in, sponsoring, or providing financial, material, techological support for, or financial or other services to or in support of, Iran's BASIJ RESISTANCE FORCE, a person determined to be subject to E.O. 13224.

20. MEHR EQTESAD FINANCIAL GROUP, Tehran, Iran; Additional Sanctions Information—Subject to Secondary Sanctions; National ID No. 10101471388 (Iran) [SDGT] [IFSR] (Linked To: MEHR-E EQTESAD-E IRANIAN INVESTMENT COMPANY).

Designated pursuant to section 1(c) of E.O. 13224 for being owned or controlled by MEHR EQTESAD IRANIAN INVESTMENT COMPANY, a person determined to be subject to E.O. 13224.

21. SINA BANK (a.k.a. SINA FINANCE AND CREDIT INSTITUTE), Between Miremad Street and Mofateh Street, Motahari Avenue, Tehran 15888-6457, Iran; SWIFT/BIC SINAIRTH; website www.sinabank.ir; Additional Sanctions Information—Subject to Secondary Sanctions [IRAN] [SDGT] [IFSR] (Linked To: ANDISHEH MEHVARAN INVESTMENT COMPANY).

Designated pursuant to section 1(d)(i) of E.O. 13224 for assisting in, sponsoring, or providing financial, material, techological support for, or financial or other services to or in support of, ANDISHEH MEHVARAN INVESTMENT COMPANY, a person determined to be subject to E.O. 13224.

22. PARSIAN BANK, No. 4, Zarafshan Street, Shahid Farahzadi Boulevard, Sharak Ghods, Tehran, Iran; SWIFT/BIC BKPAIRTH; website www.parsian-bank.com; Additional Sanctions Information—Subject to Secondary Sanctions; All Branches Worldwide [IRAN] [SDGT] [IFSR] (Linked To: ANDISHEH MEHVARAN INVESTMENT COMPANY).

Designated pursuant to section 1(d)(i) of E.O. 13224 for assisting in, sponsoring, or providing financial, material, techological support for, or financial or other services to or in support of, ANDISHEH MEHVARAN INVESTMENT COMPANY, a person determined to be subject to E.O. 13224.

In light of their designations, the following entities no longer are blocked solely pursuant to Executive Order 13599 of February 5, 2012 and Section 560.211 of the Iranian Transactions and Sanctions Regulations (ITSR), 31 CFR part 560, and, thus, they have been removed from the List of Persons Identified as Blocked Solely Pursuant to Executive Order 13599 (the E.O. 13599 List) and placed on the SDN List:

1. BANK MELLAT, Head Office Bldg, 276 Taleghani Ave, Tehran, Iran; SWIFT/BIC BKMTIRTH; website www.bankmellat.ir; Additional Sanctions Information—Subject to Secondary Sanctions; All Branches Worldwide [IRAN] [SDGT] [IFSR] (Linked To: MEHR EQTESAD BANK).

2. SINA BANK (a.k.a. SINA FINANCE AND CREDIT INSTITUTE), Between Miremad Street and Mofateh Street, Motahari Avenue, Tehran 15888-6457, Iran; SWIFT/BIC SINAIRTH; website www.sinabank.ir; Additional Sanctions Information—Subject to Secondary Sanctions [IRAN] [SDGT] [IFSR] (Linked To: ANDISHEH MEHVARAN INVESTMENT COMPANY).

3. PARSIAN BANK, No. 4, Zarafshan Street, Shahid Farahzadi Boulevard, Sharak Ghods, Tehran, Iran; SWIFT/BIC BKPAIRTH; website www.parsian-bank.com; Additional Sanctions Information—Subject to Secondary Sanctions; All Branches Worldwide [IRAN] [SDGT] [IFSR] (Linked To: ANDISHEH MEHVARAN INVESTMENT COMPANY).

Dated: October 16, 2018.
Andrea M. Gacki,
Director, Office of Foreign Assets Control U.S. Department of the Treasury.

[FR Doc. 2018-22881 Filed 11-14-18; 8:45 am]

BILLING CODE 4810-AL-P